DEPARTMENT OF HOMELAND SECURITY

U.S. Customs and Border Protection

Customs Broker Permit User Fee Payment for 2023

AGENCY: U.S. Customs and Border Protection, Department of Homeland Security.

ACTION: General notice.

SUMMARY: This document provides notice to customs brokers that the annual user fee that is assessed for each permit held by a broker, whether it may be an individual, partnership, association, or corporation, is due no later than February 24, 2023. The annual user fee reflects the changes made by two final rules, published in the Federal Register on October 18, 2022, and effective December 19, 2022, that eliminate broker districts and district permits, and transition all customs brokers to a single national permit. Pursuant to fee adjustments required by the Fixing America's Surface Transportation Act (FAST ACT) and U.S. Customs and Border Protection (CBP) regulations, the annual user fee payable for calendar year 2023 will be $163.71.

DATES: Payment of the 2023 Customs Broker Permit User Fee is due no later than February 24, 2023.

FOR FURTHER INFORMATION CONTACT: Melba Hubbard, Chief, Broker Management Branch, Office of Trade, (202) 325-6986, or melba.hubbard@cbp.dhs.gov.

SUPPLEMENTARY INFORMATION:

Background

Pursuant to section 111.96 of title 19 of the Code of Federal Regulations (19 CFR 111.96(c)), U.S. Customs and Border Protection (CBP) assesses an annual user fee for each customs broker permit held by an individual, partnership, association, or corporation. CBP regulations provide that this fee is payable each calendar year for a national permit held by a broker and must be paid by the due date published annually in the Federal Register. See 19 CFR 24.22(h) and (i)(9); 19 CFR 111.96(c).

On October 18, 2022, CBP published two concurrent final rules in the Federal Register (87 FR 63262 and 87 FR 63267) modernizing the customs broker regulations in parts 24 and 111 of title 19 of the CFR. These two final rules eliminate broker districts and district permits, as well as the permit user fees for district permits. CBP is in the process of transitioning all district permit holders to a national permit. In accordance with the effective date of these two final rules on December 19, 2022, all permit holders will hold one national permit only and must pay annual user fees for one national permit only.

Sections 24.22 and 24.23 of title 19 of the CFR (19 CFR 24.22 and 24.23) provide for and describe the procedures that implement the requirements of the Fixing America's Surface Transportation Act (FAST Act) (Pub. L. 114-94, December 4, 2015). Section 32201 of the FAST Act amended section 13031 of the Consolidated Omnibus Budget Reconciliation Act (COBRA) of 1985 (19 U.S.C. 58c) by requiring the Secretary of the Treasury to adjust certain customs COBRA user fees and corresponding limitations to reflect certain increases in inflation. Paragraph (k) in section 24.22 (19 CFR 24.22(k)) sets forth the methodology to adjust fees for inflation, and to determine the change in inflation as well as the factor by which the fees and limitations will be adjusted, if necessary. The customs broker permit user fee is set forth in appendix A of part 24, which lists fees and limitations subject to the adjustment. (19 CFR 24.22 appendix A.) On August 1, 2022, CBP published a Federal Register notice, CBP Dec. 22-17, which among other things, announced that the annual customs broker permit user fee would increase to $163.71 for calendar year 2023. See 87 FR 46973.

As required by 19 CFR 111.96 and 24.22, CBP must provide notice in the Federal Register no later than 60 days before the date that the payment is due for each broker permit. This document notifies customs brokers that for calendar year 2023, the due date for payment of the user fee is February 24, 2023.

Dated: December 5, 2022.
AnnMarie R. Highsmith,
Executive Assistant Commissioner, Office of Trade.

[FR Doc. 2022-26940 Filed 12-15-22; 8:45 am]

BILLING CODE 9111-14-P